SMALL BUSINESS ADMINISTRATION

[Disaster Declaration #13957 and #13958]

Arkansas Disaster Number AR-00070

AGENCY: U.S. Small Business Administration.

ACTION: Amendment 1.

SUMMARY: This is an amendment of the Presidential declaration of a major disaster for the State of Arkansas (FEMA-4174-DR), dated 04/29/2014.

Incident: Severe Storms, Tornadoes, and Flooding.

Incident Period: 04/27/2014.

Effective Date: 05/05/2014.

Physical Loan Application Deadline Date: 06/30/2014.

EIDL Loan Application Deadline Date: 01/29/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of Arkansas, dated 04/29/2014 is hereby amended to include the following areas as adversely affected by the disaster:

Primary Counties: (Physical Damage and Economic Injury Loans): Pulaski; Randolph; White.

Contiguous Counties: (Economic Injury Loans Only):

Arkansas: Clay; Grant; Greene; Independence; Jackson; Jefferson; Lawrence; Prairie; Saline; Sharp; Woodruff.

Missouri: Oregon; Ripley.

All other information in the original declaration remains unchanged.

(Catalog of Federal Domestic Assistance Numbers 59002 and 59008)

James E. Rivera,
Associate Administrator for Disaster Assistance.

[FR Doc. 2014-10925 Filed 5-12-14; 8:45 am]

BILLING CODE 8025-01-P